DEPARTMENT OF VETERANS AFFAIRS

Notice of Performance Review Board Members

AGENCY: Department of Veterans Affairs, Corporate Senior Executive Management Office.

ACTION: Notice.

SUMMARY: Agencies are required to publish a notice in the Federal Register of the appointment of Performance Review Board (PRB) members. This notice announces the appointment of individuals to serve on the PRB of the Department of Veterans Affairs.

DATES: This list is effective October 22, 2020.

ADDRESSES: Corporate Senior Executive Management Office, Department of Veterans Affairs, 810 Vermont Avenue NW, Washington, DC 20420.

FOR FURTHER INFORMATION CONTACT: Contact Carrie Johnson-Clark, Executive Director, Corporate Senior Executive Management Office (006D), Department of Veterans Affairs, 810 Vermont Avenue NW, Washington, DC 20420, (202) 632-5181.

SUPPLEMENTARY INFORMATION: The membership of the Department of Veterans Affairs Performance Review Board is as follows:

Reeves, Randy (Chair)

Brahm, Victoria

Bologna, Mark

Carroll, J. David

Czarnecki, Tammy

Farrisee, Gina

Galvin, Jack

Isaacks, Scott

Jones, Luwanda

MacDonald, Edna

Matthews, Kameron

Mattison-Brown, Valerie

Mayo, Jeffrey

McDivitt, Robert

McDougal, Skye

Mitrano, Catherine

Murray, Edward J.

Ogilvie, Brianne

Oshinski, Renee

Oswalt, John

Pope, Brent

Rivera, Fernando

Simms, Christopher B.

Streitberger, William

Tallman, Gary

Thomas, Lisa

Tibbits, Paul

Verschoor, Thayer

Authority: 5 U.S.C. 4314(c)(4).

Signing Authority

The Secretary of Veterans Affairs approved this document and authorized the undersigned to sign and submit the document to the Office of the Federal Register for publication electronically as an official document of the Department of Veterans Affairs. Robert L. Wilkie, Secretary, Department of Veterans Affairs, approved this document on October 14, 2020, for publication.

Jeffrey M. Martin,
Assistant Director, Office of Regulation Policy & Management, Office of the Secretary, Department of Veterans Affairs.

[FR Doc. 2020-23445 Filed 10-21-20; 8:45 am]

BILLING CODE 8320-01-P